DEPARTMENT OF EDUCATION

Applications for New Awards; Opportunity Scholarship Program

AGENCY: Office of Elementary and Secondary Education, Department of Education.

ACTION: Notice.

SUMMARY: The Department of Education (Department) is issuing a notice inviting applications for fiscal year (FY) 2025 for the District of Columbia Opportunity Scholarship Program (OSP).

DATES:

Applications Available: April 28, 2025.

Deadline for Transmittal of Applications: July 7, 2025.

Deadline for Intergovernmental Review: September 5, 2025.

Note: For new potential grantees unfamiliar with grantmaking at the Department, please consult our “Getting Started with Discretionary Grant Applications” web page at www.ed.gov/grants-and-programs/apply-grant/getting-started-discretionary-grant-applications.

ADDRESSES: For the addresses for obtaining and submitting an application, please refer to our Common Instructions for Applicants to Department of Education Discretionary Grant Programs, published in the Federal Register on December 23, 2024 (89 FR 104528) and available at http://www.federalregister.gov/documents/2024/12/23/2024-30488/common-instructions-for-applicants-to-department-of-education-discretionary-grant-programs.

FOR FURTHER INFORMATION CONTACT: Beth Yeh, U.S. Department of Education, 400 Maryland Avenue SW, Washington, DC 20202-5960. Telephone: (202) 205-5798. Email: beth.yeh@ed.gov.

If you are deaf, hard of hearing, or have a speech disability and wish to access telecommunications relay services, please dial 7-1-1.

SUPPLEMENTARY INFORMATION:

Full Text of Announcement

I. Funding Opportunity Description

Purpose of Program: The purpose of the OSP is to provide low-income parents residing in the District of Columbia, particularly parents of students who attend an elementary school or secondary school identified as one of the lowest performing schools under the District of Columbia's accountability system, with expanded opportunities for enrolling their children in private schools in the District of Columbia.

Assistance Listing Number: 84.370A.

OMB Control Number: 1810-0774.

Background: The OSP was established in 2004 under the DC School Choice Incentive Act of 2003 (School Choice Incentive Act) (Title III of Division C of the Consolidated Appropriations Act, 2004; Pub. L. 108-199; 118 Stat. 126-118 Stat. 134 (2004)), and was most recently reauthorized in 2017 (Division C of Pub. L. 112-10, as amended by Pub. L. 115-31; DC Code 38-1853.01-.14).

For FY 2025, the Department will award one grant to an eligible entity to administer the OSP in the form of a cooperative agreement between the Department and the grantee.

The Full-Year Continuing Appropriations and Extensions Act, 2025, provided that up to $1,750,000 of the grant may be used for the combination of administrative expenses, parental assistance, and student academic assistance, notwithstanding the allowances specified in the SOAR Act.

Definitions: The definitions of “elementary school,” “parent,” and “secondary school” are from section 3013 of the SOAR Act. The definitions of “continuous improvement” and “nonprofit” are from 34 CFR 77.1.

Continuous improvement means using plans for collecting and analyzing data about a project component's implementation and outcomes (including the pace and extent to which project outcomes are being met) to inform necessary changes throughout the project. These plans may include strategies to gather ongoing feedback from participants and stakeholders on the implementation of the project component.

Elementary school means an institutional day or residential school, including a public elementary charter school, that provides elementary education, as determined under District of Columbia law.

Nonprofit, as applied to an agency, organization, or institution, means that it is owned and operated by one or more corporations or associations whose net earnings do not benefit, and cannot lawfully benefit, any private shareholder or entity.

Parent includes a legal guardian or other person standing in loco parentis (such as a grandparent or stepparent with whom the child lives, or a person who is legally responsible for the child's welfare).

Secondary school means an institutional day or residential school, including a public secondary charter school, that provides secondary education, as determined under District of Columbia law, except that the term does not include any education beyond grade 12.

II. Award Information

Type of Award: Cooperative agreement.

Estimated Available Funds: $17,500,000.

Estimated Number of Awards: 1.

Note: The Department is not bound by any estimates in this notice.

Project Period: Up to 60 months (five 12-month budget periods). Under 34 CFR 75.117(b), applicants must submit a budget narrative accompanied by a budget form prescribed by the Secretary that provides budget information for each budget period of the proposed project period. Therefore, we may reject any application that does not propose a five-year project period as reflected on the applicant's ED 524 form, Section A, and budget narrative form, submitted as a part of the application.

III. Eligibility Information

1. Eligible Applicants: To be eligible for an OSP grant, an entity must be either a nonprofit organization or a consortium of nonprofit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

Note: A faith-based organization is eligible to apply for and receive a grant under this program on the same basis as any other private organization, consistent with appendix A to 34 CFR part 75.

2. a. Cost Sharing or Matching: This competition does not require cost sharing or matching. However, consistent with 34 CFR 75.700, which requires an applicant to comply with its approved application, an applicant that proposes non-Federal matching funds and is awarded a grant must provide those funds for each year that the funds are proposed.

b. Indirect Cost Rate Information: This program uses an unrestricted indirect cost rate. For more information regarding indirect costs, or to obtain a negotiated indirect cost rate, please see https://www.ed.gov/about/ed-offices/ofo#Indirect-Cost-Division.

c. Administrative Cost Limitation: Notwithstanding the allowance specified in section 3007(b) and (c) of the SOAR Act, administrative costs, including parental assistance and student academic assistance, may be subject to Consolidated Appropriations Acts. For FY 2025, the combined limit on such costs is $1,750,000. All administrative expenses must be reasonable and necessary and conform to Cost Principles described in subpart E of the Uniform Administrative Requirements, Cost Principles, and Audit Requirements for Federal Awards in 2 CFR part 200 (Uniform Guidance).

3. Subgrantees: A grantee under this competition may not award subgrants to entities to directly carry out project activities described in its application.

b. Build America, Buy America Act: This program is not subject to the Build America, Buy America Act (Pub. L. 117-58) domestic sourcing requirements.

IV. Application and Submission Information

1. Application Submission Instructions: Applicants are required to follow the Common Instructions for Applicants to Department of Education Discretionary Grant Programs, published in the Federal Register on December 23, 2024 (89 FR 104298) and available at http://www.federalregister.gov/documents/2024/12/23/2024-30488/common-instructions-for-applicants-to-department-of-education-discretionary-grant-programs, which contain requirements and information on how to submit an application.

2. Submission of Proprietary Information: Given the types of projects that may be proposed in applications for OSP, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure of Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the abstract, the resumes, the bibliography, or the letters of support. However, the recommended page limit does apply to all of the application narrative. An application will not be disqualified if it exceeds the recommended page limit.

6. Application Requirements:

The following requirements are from section 3005(b) of the SOAR Act and apply to all applications submitted by eligible entities under this competition.

(1) Each entity's application must include a detailed description of—

(a) How the entity will address the priorities described in section 3006 of the SOAR Act;

(b) How the entity will ensure that if more eligible students seek admission in the program of the entity than the program can accommodate, eligible students are selected for admission through a random selection process which gives weight to the priorities described in section 3006 of the SOAR Act;

(c) How the entity will ensure that if more participating eligible students seek admission to a participating school than the school can accommodate, participating eligible students are selected for admission through a random selection process;

(d) How the entity will notify parents of eligible students of the expanded choice opportunities in order to allow the parents to make informed decisions;

(e) The activities that the entity will carry out to provide parents of eligible students with expanded choice opportunities through the awarding of scholarships under section 3007(a) of the SOAR Act;

(f) How the entity will determine the amount that will be provided to parents under section 3007(a)(2) of the SOAR Act for the payment of tuition, fees, and transportation expenses, if any;

(g) How the entity will seek out private elementary schools and secondary schools in the District of Columbia to participate in the program;

(h) How the entity will ensure that each participating school will meet the reporting and other program requirements under the SOAR Act;

(i) How the entity will ensure that participating schools submit to site visits by the entity as determined to be necessary by the entity;

(j) How the entity will ensure that participating schools are financially responsible and will use the funds received under section 3007 of the SOAR Act effectively;

(k) How the entity will ensure the financial viability of participating schools in which 85 percent or more of the total number of students enrolled at the school are participating eligible students that receive and use an opportunity scholarship;

(l) How the entity will address the renewal of scholarships to participating eligible students, including continued eligibility;

(m) How the entity will ensure that a majority of its voting board members or governing organization are residents of the District of Columbia; and

(n) How the eligible entity will ensure that it utilizes internal fiscal and quality controls and complies with applicable financial reporting requirements; and

(2) An assurance that it will comply with all requests regarding any evaluation carried out under section 3009(a) of the SOAR Act.

In addition to the statutory application requirements, we encourage applicants to include a description of (1) how they will provide information to parents regarding which provisions under the Individuals with Disabilities Education Act (20 U.S.C. 1400 et seq.) and Section 504 of the Rehabilitation Act (29 U.S.C. 794) do or do not apply when a student with a disability is enrolled in a private school by their parents, and (2) if applicable, how they intend to spend funds reserved for administrative expenses, parental assistance and student academic assistance.

V. Application Review Information

1. Selection Criteria: The selection criteria for this competition are from 34 CFR 75.210 and are as follows:

(a) Quality of project design (up to 35 points).

The Secretary considers the quality of the design of the proposed project. In determining the quality of the design of the proposed project, the Secretary considers the extent to which the goals, objectives, and outcomes to be achieved by the proposed project are clearly specified, measurable, and ambitious yet achievable within the project period, and aligned with the purposes of the grant program.

(b) Adequacy of resources (up to 25 points).

The Secretary considers the adequacy of resources for the proposed project. In determining the adequacy of resources for the proposed project, the Secretary considers:

(1) The adequacy of support for the project, including facilities, equipment, supplies, and other resources, from the applicant or the lead applicant organization (up to 15 points).

(2) The extent to which the costs are reasonable in relation to the number of persons to be served, the depth and intensity of services, and the anticipated results and benefits (up to 10 points).

(c) Quality of the management plan (up to 40 points).

The Secretary considers the quality of the management plan for the proposed project. In determining the quality of the management plan for the proposed project, the Secretary considers:

(1) The feasibility of the management plan to achieve project objectives and goals on time and within budget, including clearly defined responsibilities, timelines, and milestones for accomplishing project tasks (up to 8 points).

(2) The adequacy of plans for ensuring the use of quantitative and qualitative data, including meaningful community member and partner input, to inform continuous improvement in the operation of the proposed project (up to 8 points).

(3) The extent to which the time commitments of the project director and principal investigator and other key project personnel are appropriate and adequate to meet the objectives of the proposed project (up to 8 points).

(4) The adequacy of mechanisms for ensuring high-quality and accessible products and services from the proposed project for the target population (up to 8 points).

(5) The extent to which the project director or principal investigator, when hired, has the qualifications required for the project, including formal training or work experience in fields related to the objectives of the project and experience in designing, managing, or implementing similar projects for the target population to be served by the project (up to 8 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF), text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site. You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-07024 Filed 4-22-25; 8:45 am]

BILLING CODE 4000-01-P